DEPARTMENT OF TRANSPORTATION

Federal Aviation Administration

14 CFR Part 97

[Docket No. 30988 Amdt. No. 3617]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 3, 2014. The compliance date for each SIAP, associated Takeoff Minimums, and ODP is specified in the amendatory provisions.

The incorporation by reference of certain publications listed in the regulations is approved by the Director of the Federal Register as of December 3, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFRs and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on November 7, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 11 DECEMBER 2014

Blytheville, AR, Arkansas Intl, ILS OR LOC/DME RWY 18, Amdt 2

Blytheville, AR, Arkansas Intl, RNAV (GPS) RWY 18, Amdt 3

Blytheville, AR, Arkansas Intl, RNAV (GPS) RWY 36, Amdt 3

Blytheville, AR, Arkansas Intl, Takeoff Minimums and Obstacle DP, Amdt 1

Blytheville, AR, Arkansas Intl, VOR RWY 18, Amdt 1, CANCELED

Blytheville, AR, Arkansas Intl, VOR RWY 36, Amdt 1, CANCELED

New Bedford, MA, New Bedford Rgnl, ILS OR LOC RWY 5, Amdt 26

New Bedford, MA, New Bedford Rgnl, LOC BC RWY 23, Amdt 13

New Bedford, MA, New Bedford Rgnl, NDB RWY 5, Amdt 12, CANCELED

New Bedford, MA, New Bedford Rgnl, RNAV (GPS) RWY 5, Amdt 1

New Bedford, MA, New Bedford Rgnl, RNAV (GPS) RWY 23, Amdt 1

Pittsfield, MA, Pittsfield Muni, LOC/DME RWY 26, Amdt 9

Pittsfield, MA, Pittsfield Muni, RNAV (GPS) RWY 8, Amdt 1

Pittsfield, MA, Pittsfield Muni, RNAV (GPS) RWY 26, Amdt 1

Baltimore, MD, Baltimore/Washington Intl Thurgood Marshall, RNAV (GPS) Y RWY 33L, Amdt 4

Baltimore, MD, Baltimore/Washington Intl Thurgood Marshall, RNAV (RNP) Z RWY 33L, Amdt 3

South Haven, MI, South Haven Area Rgnl, RNAV (GPS) RWY 5, Amdt 1B

South Haven, MI, South Haven Area Rgnl, RNAV (GPS) RWY 23, Amdt 1B

Falls City, NE, Brenner Field, NDB-A, Amdt 3C

Falls City, NE, Brenner Field, RNAV (GPS) RWY 15, Amdt 1

Falls City, NE, Brenner Field, RNAV (GPS) RWY 33, Amdt 2

Falls City, NE, Brenner Field, Takeoff Minimums and Obstacle DP, Amdt 4

Sussex, NJ, Sussex, RNAV (GPS) RWY 3, Orig-A

Pottstown, PA, Heritage Field, RNAV (GPS) RWY 28, Orig-A

Canadian, TX, Hemphill County, RNAV (GPS) RWY 22, Amdt 2

Gordonsville, VA, Gordonsville Muni, RNAV (GPS) RWY 5, Orig, CANCELED

Gordonsville, VA, Gordonsville Muni, RNAV (GPS) RWY 23, Orig, CANCELED

Gordonsville, VA, Gordonsville Muni, RNAV (GPS)-A, Orig

Gordonsville, VA, Gordonsville Muni, RNAV (GPS)-B, Orig

Effective 8 JANUARY 2015

Fairbanks, AK, Fairbanks Intl, ILS OR LOC RWY 2L, ILS RWY 2L (SA CAT I), ILS RWY 2L (CAT II), ILS RWY 2L (CAT III), Amdt 10

Fairbanks, AK, Fairbanks Intl, ILS OR LOC RWY 20R, ILS RWY 20R (SA CAT I), ILS RWY 20R (SA CAT II), Amdt 25

Fairbanks, AK, Fairbanks Intl, RNAV (GPS) RWY 2R, Amdt 1

Fairbanks, AK, Fairbanks Intl, RNAV (GPS) RWY 20L, Amdt 1

Fairbanks, AK, Fairbanks Intl, RNAV (GPS) Y RWY 2L, Amdt 1

Fairbanks, AK, Fairbanks Intl, Takeoff Minimums and Obstacle DP, Amdt 6

Fairbanks, AK, Fairbanks Intl, VOR/DME OR TACAN RWY 20R, Amdt 1

Murrieta/Temecula, CA, French Valley, RNAV (GPS) RWY 18, Amdt 2

Mount Carmel, IL, Mount Carmel Muni, VOR/DME RWY 22, Amdt 10A

Liberal, KS, Liberal Mid-America Rgnl, Takeoff Minimums and Obstacle DP, Amdt 6

Gonzales, LA, Louisiana Rgnl, RNAV (GPS) RWY 17, Amdt 1B

Gonzales, LA, Louisiana Rgnl, VOR/DME-A, Amdt 2A

Cut Bank, MT, Cut Bank Intl, RNAV (GPS) RWY 14, Orig

Cut Bank, MT, Cut Bank Intl, RNAV (GPS) RWY 32, Orig

Sylva, NC, Jackson County, RNAV (GPS) RWY 33, Orig

Sylva, NC, Jackson County, Takeoff Minimums and Obstacle DP, Orig

Omaha, NE, Eppley Airfield, ILS OR LOC/DME RWY 14R, ILS RWY 14R (SA CAT I), ILS RWY 14R (CAT II), ILS RWY 14R (CAT III), Amdt 5A

Omaha, NE, Eppley Airfield, ILS OR LOC/DME RWY 18, Amdt 9A

Omaha, NE, Eppley Airfield, RNAV (GPS) Y RWY 14R, Amdt 2

Omaha, NE, Eppley Airfield, RNAV (GPS) Y RWY 18, Amdt 3

Omaha, NE, Eppley Airfield, VOR/DME RWY 32L, Amdt 12

Farmingdale, NY, Republic, Takeoff Minimums and Obstacle DP, Amdt 7

Altus, OK, Altus/Quartz Mountain Rgnl, RNAV (GPS) RWY 17, Amdt 1

Altus, OK, Altus/Quartz Mountain Rgnl, RNAV (GPS) RWY 35, Amdt 1

Altus, OK, Altus/Quartz Mountain Rgnl, VOR-A, Orig

Altus, OK, Altus/Quartz Mountain Rgnl, VOR-A, Amdt 4D, CANCELED

Altus, OK, Altus/Quartz Mountain Rgnl, VOR-B, Amdt 1, CANCELED

Oklahoma City, OK, Wiley Post, RNAV (GPS) RWY 17L, Amdt 2

Portland, OR, Portland-Troutdale, NDB OR GPS-A, Amdt 8B, CANCELED

Portland, OR, Portland-Troutdale, RNAV (GPS)-A, Orig

Rapid City, SD, Rapid City Rgnl, ILS OR LOC RWY 32, Amdt 20

RESCINDED: On October 24, 2014 (79 FR 63530), the FAA published an Amendment in Docket No. 30979, Amdt No. 3609, to Part 97 of the Federal Aviation Regulations under section 97.33. The following entries for South Haven, MI, effective November 13, 2014 are hereby rescinded in their entirety:

South Haven, MI, South Haven Area Rgnl, RNAV (GPS) RWY 5, Amdt 1B

South Haven, MI, South Haven Area Rgnl, RNAV (GPS) RWY 23, Amdt 1B

[FR Doc. 2014-28245 Filed 12-2-14; 8:45 am]

BILLING CODE 4910-13-P